DEPARTMENT OF THE INTERIOR

Bureau of Ocean Energy Management

[Docket No. BOEM-2021-0036]

Joint Record of Decision for the Final Environmental Impact Statement for the Vineyard Wind 1 Offshore Wind Energy Project; Notice of Availability of Record of Decision Supplements

AGENCY: Bureau of Ocean Energy Management (BOEM), Interior.

ACTION: Notice of availability; record of decision (ROD) supplements.

SUMMARY: BOEM announces the availability of two supplements to the joint ROD on the final environmental impact statement (FEIS) for the construction and operations plan (COP) submitted by Vineyard Wind 1 LLC (Vineyard Wind 1). The joint ROD included the decisions of the Department of the Interior (DOI), the U.S. Army Corps of Engineers (USACE), and the National Marine Fisheries Service (NMFS) regarding the Vineyard Wind 1 Offshore Wind Energy Project. In the joint ROD, the USACE adopted the FEIS to support its permitting actions under the Rivers and Harbors Act of 1899 (RHA) and Clean Water Act (CWA). The ROD supplements pertain only to the USACE sections of the joint ROD. They correct clerical errors and clarify a statement. The ROD supplements are available on BOEM's website at https://www.boem.gov/Vineyard-Wind.

FOR FURTHER INFORMATION CONTACT: Jessica Stromberg, Acting Chief, Environment Branch for Renewable Energy, Bureau of Ocean Energy Management, 45600 Woodland Road, VAM-OREP Sterling, Virginia 20166, (703) 787-1730, or jessica.stromberg@boem.gov.

SUPPLEMENTARY INFORMATION: Vineyard Wind 1 plans to construct, operate, maintain, and eventually decommission an 800-megawatt wind energy facility on the Outer Continental Shelf offshore Massachusetts (the Project). The Project and associated export cables would be developed within the range of design parameters outlined in the Vineyard Wind 1 COP, subject to applicable mitigation measures. The Project is located approximately 14 miles southeast of Martha's Vineyard and a similar distance southwest of Nantucket. The approved COP allows the installation of up to 84 wind turbine generators (WTGs) and one or two offshore substations or electrical service platforms. The WTGs would be located in water depths ranging from approximately 37 to 49 meters (121 to 161 feet). The approved COP proposed one export cable landfall near the town of Barnstable, Massachusetts, and onshore construction and staging at the New Bedford Marine Commerce Terminal.

As documented in the joint ROD, after carefully considering the FEIS alternatives, including comments from the public on the draft and supplemental EISs, DOI decided to approve the COP for Vineyard Wind 1, NMFS decided to adopt BOEM's FEIS and issue a final incidental harassment authorization to Vineyard Wind 1, and USACE decided to adopt BOEM's FEIS and issue a Department of the Army (DA) permit pursuant to section 404 of the CWA (33 U.S.C. 1344) and section 10 of the RHA (33 U.S.C. 403). The DA permit authorizes Vineyard Wind 1 to discharge fill below the high tide line of waters of the United States and to perform work and place structures below the mean high-water mark of navigable waters of the United States.

Subsequent to the issuance of the joint ROD and prior to the issuance of the DA permit, USACE issued a ROD supplement correcting several clerical errors regarding the Project's offshore export cable corridor length and the total acreage of transmission-cable scour protection to be authorized under the DA permit.

Following the issuance of the DA permit, USACE issued a second ROD supplement. That supplement corrected a clerical error that had resulted in a portion of USACE's public interest determination being cut off mid-sentence and clarified an incorrect statement in the “General Public Interest Review” section of the USACE portion of the joint ROD.

The USACE portion of the joint ROD included this incorrect statement: “While Vineyard Wind is not authorized to prevent free access to the entire wind development area, due to the placement of the turbines it is likely that the entire 75,614 acre area will be abandoned by commercial fisheries due to difficulties with navigation.” The second ROD supplement clarified that this statement was based solely upon comments of interested parties submitted to BOEM during the public comment period for the draft environmental impact statement as summarized in appendix K to the FEIS. The statement was not based upon any separate or independent USACE or other agency evaluation or study. Accordingly, the statement does not represent the USACE position regarding the accessibility of the wind development area to commercial fisheries due to difficulties of navigation that may or may not result from the placement of the WTGs.

Both ROD supplements are available on BOEM's website at https://www.boem.gov/Vineyard-Wind.

Authority: 42 U.S.C. 4321 et seq.; 40 CFR parts 1500-1508.

William Yancey Brown,
Chief Environmental Officer, Bureau of Ocean Energy Management.

[FR Doc. 2022-17424 Filed 8-12-22; 8:45 am]

BILLING CODE 4340-98-P